NATIONAL SCIENCE FOUNDATION

Proposal Review Panel for Ocean Sciences; Notice of Meeting

In accordance with the Federal Advisory Committee Act Pub. L. 92-463, as amended), the National Science Foundation announces the following meeting.

Name: Proposal Review Panel for Ocean Sciences (#10752).

Date & Time: June 18-19, 2013, 8:30 a.m.-5:00 p.m.

Place: National Science Foundation; 4201 Wilson Blvd., Arlington, VA 22230, Stafford I, Room 730.

Type of Meeting: Partially Closed.

Contact Person: Baris M. Uz, Program Director, Physical Oceanography, Division of Ocean Sciences; National Science Foundation, 4201 Wilson Blvd., Arlington, VA 22230. Telephone: (703) 292-8582.

Purpose of Meeting: To provide advice and recommendations concerning progress of the Coastal Margin Observatory and Prediction Science and Technology Center (CMOP).

Agenda

Tuesday, June 18, 2013

9:00 a.m.-12:00 p.m. Presentations by CMOP investigators (open)

1:00 p.m.-4:00 p.m. Continued CMOP presentations, questions & answers (open)

4:00 p.m.-4:30 p.m. Site Visit team discusses list of overnight questions to CMOP (closed)

Wednesday, June 19

9:00 a.m.-10:00 a.m. CMOP presents answers to overnight questions (open)

10:00 a.m.-3:00 p.m. Site Visit team discussion, work on report (closed)

3:00 p.m.-4:30 p.m. Site Visit team may present report (closed)

Reason For Late Notice: Due to unexpected scheduling complications and the necessity to proceed with the review.

Reason For Closing: During closed sessions the review will include information of confidential nature, including technical information; financial data, such as salaries; and personal information concerning individuals associated with the proposals. These matters are exempt under 5 U.S.C. 552b(c), (4) and (6) of the Government in The Sunshine Act.

Dated: June 10, 2013.
Susanne Bolton,
Committee Management Officer.

[FR Doc. 2013-14095 Filed 6-13-13; 8:45 am]

BILLING CODE 7555-01-P